DEPARTMENT OF TRANSPORTATION

Federal Aviation Administration

RTCA Special Committee 202: Portable Electronic Devices

AGENCY: Federal Aviation Administration (FAA), DOT.

ACTION: Notice of RTCA Special Committee 202 meeting.

SUMMARY: The FAA is issuing this notice to advise the public of a meeting of RTCA Special Committee 202: Portable Electronic Devices.

DATES: The meeting will be held on October 28-30, 2003 from 9 a.m. to 4:30 p.m.

ADDRESSES: The meeting will be held at RTCA, Inc., 1828 L Street, NW., Suite 805, Washington, DC 20036-5133.

FOR FURTHER INFORMATION CONTACT: RTCA Secretariat, 1828 L Street, NW., Suite 805, Washington, DC 20036-5133; telephone (202) 833-9339; fax: (202) 833-9434; Web site: http://www.rtca.org.

SUPPLEMENTARY INFORMATION: Pursuant to section 10(a)(2) of the Federal Advisory Committee Act (Pub. L. 92-463, 5 U.S.C., Appendix 2), notice is hereby given for a Special Committee 202 meeting. The agenda will include:

• October 28:

• Working Groups 1 through 4 meet all day

• October 29:

• Opening Plenary Session (Welcome and Introductory Remarks, Review Agenda, Review/Approve Previous Common Plenary Summary, Review Open Action Items)

• Review and update of EUROCAE WG58 Activities

• Report and Update on Plans for IATA SPSG#9 Activities

• Summary Scoping and Plan for SC-202 Phase 1 Deliverables

• Review Working Group (WG) Progress and Identify Issues for Resolution (will continue into second day as required)

• Working Group 1 (PEDs characterization, test, and evaluation)

• Overview of SC-202 Phase 1 report materials completed in draft form

• Preliminary or summary list of devices type/categorizations

• Grouped by frequencies used, modulation type, power, etc.

• Prioritized device categories for Phase 1 document

• Equipment needs or other support required

• Working Group 2 (Aircraft test and analysis)

• Overview of SC-202 Phase 1 report materials completed in draft form

• Current state of planning for aircraft test

• What has to be determined to be already existing and useable data

• Needs for airplane availability

• What needs to be done for Phase 1 documentation

• Equipment needs or other support required

• October 30:

• Continue Plenary Session

• Review of Working Group (WG) Progress and Identify Issues for Resolution

• Working Group 3 (Aircraft systems susceptibility)

• Overview of SC-202 Phase 1 report materials completed in draft form

• Definition of systems susceptibility presentation format

• Prioritized list of on-aircraft systems to identify “most critical” victim systems

• Summary of timeframe for data availability

• Testing requirements identified, plan for initial susceptibility testing

• What remains to be done for Phase 1 documentation

• Working Group 4 (Risk assessment, practical application, and final documentation)

• Overview of SC-202 Phase 1 report materials completed in draft form

• First cut or current plan for what guidance, and identify where the gaps are that should be addressed in SC-202 report

• Final requests for data from other WGs (what data is needed first)

• What needs to be done for Phase 1 documentation

• Issues identified for resolution by several Working Groups

• How to address the intermodulation issue

• How to address the multiple-PED issue

• Assignment/Review of Future Work

• Closing Session (Other Business, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 3, 2003.
Robert Zoldos,
FAA System Engineer, RTCA Advisory Committee.

[FR Doc. 03-26230 Filed 10-16-03; 8:45 am]

BILLING CODE 4910-13-M